DEPARTMENT OF THE INTERIOR

Bureau of Land Management

[BLM_WY_FRN_MO4500181872; WYW034993]

Public Land Order No. 7951; Extension of Public Land Order No. 6578, as Extended; for Castle Garden Recreation Area, Wyoming

AGENCY: Bureau of Land Management, Interior.

ACTION: Public Land Order.

SUMMARY: This Order extends the duration of the withdrawal created by Public Land Order (PLO) No. 6578, as extended by PLO No. 7612, for an additional 20-year period. PLO No. 6578, as extended, withdrew 110 acres of public land administered by the Bureau of Land Management (BLM) in Washakie County, Wyoming, from settlement, sale, location, or entry under the general land laws, including the United States mining laws, but not from leasing under the mineral leasing laws, to protect the Castle Garden Recreation Area. The withdrawal extension is necessary to protect the recreational and aesthetic values as well as the capital investment of Castle Garden Recreation Area.

DATES: This Order takes effect on November 8, 2024.

FOR FURTHER INFORMATION CONTACT: Sarah Naranjo, Realty Specialist, at (307) 775-6189, Bureau of Land Management, Wyoming State Office, 5353 Yellowstone Rd, Cheyenne, Wyoming 82009. Individuals in the United States who are deaf, blind, hard of hearing, or have a speech disability may dial 711 (TTY, TDD, or TeleBraille) to access telecommunications relay services. Individuals outside the United States should use the relay services offered within their country to make international calls to the point-of-contact in the United States. The service is available 24 hours a day, 7 days a week, to leave a message or question with the above individual. You will receive a reply during normal business hours.

SUPPLEMENTARY INFORMATION: The extension of PLO No. 6578, as extended by PLO No. 7612, is required in order to continue the protection of recreational and aesthetic values as well as the capital investment of the Castle Garden Recreation Area.

Order

By virtue of the authority vested in the Secretary of the Interior by section 204(f) of the Federal Land Policy and Management Act of 1976, 43 U.S.C. 1714(f), it is ordered as follows:

1. PLO No. 6578 (49 FR 46144 (1984)), as extended by PLO No. 7612 (69 FR 51320 (2004)), which withdrew 110 acres of public land from settlement, sale, location, or entry under the general land laws, including the United States mining laws, but not from leasing under the mineral leasing laws, subject to existing rights, to protect the Castle Garden Recreation Area, is hereby extended for an additional 20-year period. The following lands are affected by this Order:

Sixth Principal Meridian, Wyoming

T. 46 N., R. 89 W.,

Sec. 15, S½NE¼NW¼, NE¼SE¼NW¼NW¼, S½SE¼NW¼NW¼, E½NW¼SW¼NW¼, NE¼SW¼NW¼, N½SE¼SW¼NW¼, SE¼SE¼SW¼NW¼, SE¼NW¼, and N½NE¼SW¼.

The area described contains 110 acres.

2. This withdrawal will expire 20 years from the effective date of this Order unless, as a result of a review conducted prior to the expiration date pursuant to section 204(f) of the Federal Land Policy and Management Act of 1976, 43 U.S.C. 1714(f), the Secretary determines that the withdrawal shall be further extended.

(Authority: 43 U.S.C. 1714)

Robert T. Anderson,
Solicitor.

[FR Doc. 2024-25960 Filed 11-7-24; 8:45 am]

BILLING CODE 4331-16-P